DEPARTMENT OF EDUCATION

National Assessment Governing Board

National Assessment Governing Board; Notice of a Meeting

AGENCY: National Assessment Governing Board, U.S. Department of Education.

ACTION: Announcement of open and closed meetings.

SUMMARY: This notice sets forth the agenda for the March 5-7, 2020 Quarterly Board Meeting of the National Assessment Governing Board (hereafter referred to as Governing Board). This notice provides information to members of the public who may be interested in attending the meeting or providing written comments related to the work of the Governing Board. Notice of this meeting is required under the Federal Advisory Committee Act (FACA).

DATES: The Quarterly Board Meeting will be held on the following dates:

• March 5, 2020 from 4 p.m. to 6 p.m.

• March 6, 2020 from 8 a.m. to 5:15 p.m.

• March 7, 2020 from 7:15 a.m. to 11:30 a.m.

ADDRESSES: Doubletree by Hilton El Paso Downtown, 600 N El Paso Street, Texas 79901.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Public Law 107-279. Information on the Governing Board and its work can be found at www.nagb.gov.

The Governing Board is established to formulate policy for the National Assessment of Educational Progress (NAEP) administered by the National Center for Education Statistics (NCES). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

Written comments related to the work of the Governing Board may be submitted electronically or in hard copy to the attention of the Executive Officer/Designated Federal Official (see contact information noted above).

March 5-7, 2020 Committee Meetings

The Governing Board's standing committees will meet to conduct regularly scheduled work based on agenda items planned for this Quarterly Board Meeting and follow-up items as reported in the Governing Board's committee meeting minutes available at https://www.nagb.gov/governing-board/quarterly-board-meetings.html.

Detailed Meeting Agenda: March 5-7, 2020

March 5: Committee Meetings

Executive Committee: Open Session: 4 p.m. to 4:45 p.m.; Closed Session 4:45 p.m. to 6 p.m.

March 6: Full Governing Board and Committee Meetings

Full Governing Board: Open Session: 8 a.m. to 5:15 p.m.

Committee Meetings: 10:30 a.m. to 12:30 p.m.

Assessment Development Committee (ADC): Open Session: 10:30 a.m. to 12:30 p.m.

Committee on Standards, Design and Methodology (COSDAM): Open Session: 10:30 a.m. to 12:30 p.m.

Reporting and Dissemination Committee (R&D): Open Session: 10:30 a.m. to 12:30 p.m.

March 7: Full Governing Board and Committee Meetings

Nominations Committee: Closed Session: 7:15 a.m. to 8:15 a.m.

Full Governing Board: Closed Session: 8:30 a.m. to 10 a.m.; Open Session: 10:00 a.m. to 11:30 a.m.

On Thursday, March 5, 2020, the Executive Committee will convene in open session from 4 p.m. to 4:45 p.m. and thereafter in closed session from 4:45 p.m. to 6:00 p.m. During the closed session, the Executive Committee will discuss the NAEP Budget vis-à-vis the NAEP Assessment Schedule. The discussions will include independent government cost estimates for assessing NAEP subjects on the recently- approved NAEP Assessment Schedule. This meeting must be conducted in closed session, because independent government cost estimates for NAEP that impact current and future NAEP contracts must be kept confidential. Public disclosure of secure data would significantly impede implementation of the NAEP assessment program if conducted in open session. Such matters are protected by exemption 9(B) of § 552b(c) of Title 5 of the United States Code.

On Friday, March 6, 2020, the Governing Board will meet in open session from 8:30 a.m. to 8:35 a.m. to review and approve the March 6-7, 2020 Quarterly Board Meeting agenda and minutes from the November 2019 Quarterly Board meeting. Newly appointed Board members will introduce themselves. The Board then will be welcomed by Governing Board member from El Paso, Dana Boyd, along with Dee Margo, Mayor of the City of El Paso, and Superintendent Xavier De La Torre, of Ysleta Independent School District, all of whom will provide remarks. This session will take place from 8:15 a.m. to 8:40 a.m.

From 8:40 a.m. to 9:45 a.m. the Board will be engaged in a panel discussion moderated by Dana Boyd on growing up in a border town from pre-school through higher education.

The Governing Board Executive Director Lesley Muldoon will provide an update on the Governing Board's work from 9:45 a.m. to 10:15 a.m. followed by a preview of committee meetings from the committee chairs from 10:15 a.m. to 10:20 a.m.

At 10:20 a.m., the Governing Board will recess for a 10-minute break and meet thereafter in standing committee meetings, convened in open session, from 10:30 a.m. to 12:30 p.m.

Following the committee meetings, on Friday, March 6, 2020, the Governing Board will convene in open session from 12:45 p.m. to 5:15 p.m. The Governing Board will receive a briefing and discuss the achievement levels work plan, led by Chair of Achievement Levels Working Group, Gregory Cizek from 12:45 p.m. to 1:20 p.m. This session will be followed by discussion on the Intended Meaning of NAEP led by COSDAM Chair, Andrew Ho from 1:20 p.m. to 1:50 p.m.

From 1:50 p.m. to 2:50 p.m. Lesley Muldoon and Lisa Stooksberry, Governing Board Deputy Executive Director, will lead a session on the Governing Board's Strategic Vision 2025. The Board will recess for a 10-minute break and reconvene from 3:00 p.m. to 4:30 p.m. in small groups to discuss the Strategic Vision. The Governing Board will reconvene in plenary session from 4:45 p.m. to 5:15 p.m. to report on the small group discussions. The March 6, 2020 session of the Governing Board meeting will adjourn at 5:15 p.m.

On Saturday, March 7, 2020, the Nominations Committee will meet in closed session from 7:15 a.m. to 8:15 a.m. to review and discuss recommendations for a final slate of candidates from applications received for the 2020 nominations cycle for open positions on the Governing Board. Thereafter, the Governing Board will meet in closed session from 8:30 a.m. to 8:45 a.m. to receive a briefing from the Nominations Committee on its recommendations for candidates to fill board vacancies. The Board will review the recommendations in closed session on on the final slate of candidates for submission to the Secretary of Education for appointments that begin October 1, 2020.

For both the Nominations Committee and full Board closed sessions, the discussions pertain solely to internal personnel rules and practices of an agency and information of a personal nature where disclosure would constitute a clearly unwarranted invasion of personal privacy. As such, the discussions are protected by exemptions 2 and 6 of § 552b(c) of Title 5 of the United States Code.

From 8:45 a.m. to 10 a.m., the Governing Board will meet in closed session to receive a briefing from NCES on the 2018 NAEP Civics, U.S. History and Geography results. This meeting must be conducted in closed session, because the assessment results are secure and will not have been released to the public at that point. Public disclosure of assessment results would significantly impede implementation of the NAEP assessment program if conducted in open session. Such matters are protected by exemption 9(B) of § 552b(c) of Title 5 of the United States Code.

The Board will meet in open session from 10 a.m. to 10:45 a.m. to receive committee reports. Governing Board actions are planned for the following four items:

(1) Achievement Levels Work Plan presented by COSDAM;

(2) Intended Meaning of NAEP, presented by COSDAM;

(3) Release Plan for 2018 Nation's Report Cards in Civics, Geography and U.S. History, presented by the R&D Committee.

(4) Submission of final slate of candidates to the Secretary of Education for the 2020 terms of service, presented by the Nominations Committee.

Following discussion and action on the Committee Reports, Lesley Muldoon will facilitate a brief discussion with Board members about next steps regarding the Strategic Vision from 10:45 a.m. to 11:15 a.m. Commissioner James Woodworth of NCES will then provide an update on NCES activities from 11:15 a.m. to 11:30 a.m. The March 7, 2020 session of the Governing Board meeting will adjourn at 11:30 a.m.

Access to Records of the Meeting: Pursuant to FACA requirements, the public may also inspect the meeting materials at www.nagb.gov beginning on March 2, 2020, by 10 a.m. EST. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than Monday, February 24, 2020.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lesley Muldoon,
Executive Director, National Assessment Governing Board (NAGB), U.S. Department of Education.

[FR Doc. 2020-02486 Filed 2-6-20; 8:45 am]

BILLING CODE P